DEPARTMENT OF ENERGY

Request for Public Comment on the Draft Report Entitled Designing a Consent-Based Siting Process: Summary of Public Input

AGENCY: Fuel Cycle Technologies, Office of Nuclear Energy, Department of Energy.

ACTION: Notice of public comment period.

SUMMARY: The U.S. Department of Energy (DOE) is designing a consent-based siting process to establish an integrated waste management system to transport, store, and dispose of commercial spent nuclear fuel and high-level defense radioactive waste. In a consent-based siting approach, DOE will work with communities, tribal governments and states across the country that express interest in hosting any of the facilities identified as part of an integrated waste management system. As part of this process, the Department issued an Invitation for Public Comment in the Federal Register on December 23, 2015 and hosted eight public meetings across the United States in 2016 to seek input on the elements that should be considered in the development of a consent-based siting process. Information gathered via the Invitation for Public Comment and Public Meetings is summarized in the draft report “Designing a Consent-Based Siting Process: Summary of Public Input,” located at energy.gov/consentbasedsiting. DOE will consider all comments and issue a final report in December 2016.

DATES: The 45-day public comment period begins September 15, 2016 and ends October 30, 2016. Comments must be received on or before 11:59 p.m. EDT, October 30, 2016 to be considered in the final report.

ADDRESSES: You may submit comments on the draft report by any of the following methods:

Email: Responses may be provided by email to consentbasedsiting@hq.doe.gov. Please submit electronic comments in Microsoft Word, or PDF file format, and avoid the use of special characters or any form of encryption.

Mail: Responses may be provided by mail to the following address: U.S. Department of Energy, Office of Nuclear Energy, Draft Consent-Based Siting Report, 1000 Independence Ave. SW., Washington, DC 20585.

Fax: Responses may be faxed to 202-586-0544. Please include “Draft Consent-based Siting Report” on the fax cover page.

Online: Responses will be accepted online at www.regulations.gov.

Data collected via the mechanisms listed above will not be protected from the public view in any way. Individual commentors' names and addresses (including email addresses) received as part of this Request for Public Comment are part of the public record. DOE plans to reproduce comment documents in their entirety, as appropriate, and to post all comment documents received in their entirety at energy.gov/consentbasedsiting. Any person wishing to have his/her address, email address, or other identifying information withheld from the public record of comment documents must state this request prominently at the beginning of any comment document, or else no redactions will be made.

FOR FURTHER INFORMATION CONTACT: Requests for further information should be sent to Mr. Andrew Griffith via consentbasedsiting@hq.doe.gov.

SUPPLEMENTARY INFORMATION:

General Information: Where can I obtain a copy of the draft report “Designing a Consent-Based Siting Process: Summary of Public Input”?

All documents in the docket are listed in the www.regulations.gov index. You may also download a copy of the draft report at energy.gov/consentbasedsiting.

Issued in Washington, DC, on September 13, 2016.
Melissa Bates,
Acting Team Leader, Nuclear Fuels Storage and Transportation Planning Project, Office of Nuclear Energy, Department of Energy.

[FR Doc. 2016-22312 Filed 9-13-16; 4:15 pm]

BILLING CODE 6450-01-P